FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. 1718 and 46 CFR part 515).

Persons knowing of any reason why the following applicants should not receive a license are requested to contact the Office of Transportation Intermediaries, Federal Maritime Commission, Washington, DC 20573.

Non-Vessel- Operating Common Carrier Ocean Transportation Intermediary Applicants:

Universal Container Trade, Inc., 13047 Artesia Blvd. #108-3, Cerritos, CA 90703. Officer: Kwanju Eah, Lee, President (Qualifying Individual).

Global Alliance Logistics (DFW) Inc., 8505 Freeport Parkway, Suite 378, Irving, TX 75063. Officers: Kang Fai Tong (Michael), Secretary (Qualifying Individual), Kam L. Ng, President.

Torision Freight Inc., 190 Heckel Street, Belleville, NJ 07109. Officers: Aric Sing Y. Yan, President (Qualifying Individual), Stanley Tak Y. Yan, Vice President.

Nanix Express, Inc., 1022 W. Irving Park Road, Bensenville, IL 60106. Officer: Felix Charn Wah Wong, President (Qualifying Individual).

Freightcan LLC, 161-15 Rockaway Blvd., Suite 20B, Jamaica, NY 11434. Officers: Dinesh P. Attavar, Vice President (Qualifying Individual), Chandru Gurnani, President.

ATX International SRL, Via Dante 144, Limito Di Pioltello, Italy 20090. Officers: USSI Gianroberto, President (Qualifying Individual), Tini Carlo, Vice President.

AERO DOC Inc., 1790 NW 82nd Avenue, Miami, FL 33126. Officers: German Walter Muller, President (Qualifying Individual), Maria Susana Alvarez Vitale, Vice President.

Non-Vessel- Operating Common Carrier and Ocean Freight Forwarder Transportation Intermediary Applicants:

Pacific Package, 6807 Parliament Street, Houston, TX 77083. Ayo George Oreyomi, Sole Proprietor.

Classic Logistics, Inc., JFK International Airport, Cargo Building #80, Rm. 205, Jamaica, NY 11430. Officers: Angela M. Tabick, Vice President (Qualifying Individual), Evan Perroncino, President.

EDU Support Services, LLC, 46 Country Ridge Drive, Shelton, CT 06484. Officer: James Carl Urso, Managing Member (Qualifying Individual).

Ocean Freight Forwarder—Ocean Transportation Intermediary Applicants:

A & A Alpha Shipping Inc., 7014 Allison Street, Landover Hills, MD 20784. Officers: Adebisi M. Akinshade, President (Qualifying Individual), Adetunji G. Akinshade, Vice President.

ASC Miami, Corp., 9949 NW 89th Avenue, Bay #5, Medley, FL 33178. Officers: Maria Del Pilar Torres, President (Qualifying Individual), Jose David Salazar, Vice President.

ProLog International Freight Forwarders, LLC, ProLog International, 13307 La Jolla Lane, Houston, TX 77060. Officer: James L. Elkins, President.

Dated: October 15, 2004.
Bryant L. VanBrakle,
Secretary.

[FR Doc. 04-23474 Filed 10-19-04; 8:45 am]

BILLING CODE 6730-01-P